DEPARTMENT OF COMMERCE

International Trade Administration

[C-122-854]

Supercalendered Paper From Canada: Notice of Rescission of Countervailing Duty Administrative Review; 2015 and 2016

AGENCY: Enforcement and Compliance, International Trade Administration, Department of Commerce.

SUMMARY: The Department of Commerce (Commerce) is rescinding the administrative reviews of the countervailing duty (CVD) order on supercalendared paper (SC paper) from Canada for the period of review August 3, 2015, through December 31, 2015, and the period of review January 1, 2016, through December 31, 2016.

DATES: Applicable July 12, 2018.

FOR FURTHER INFORMATION CONTACT: Emily Halle or Nicholas Czajkowski, AD/CVD Operations, Office I, Enforcement and Compliance, International Trade Administration, U.S. Department of Commerce, 1401 Constitution Avenue NW, Washington, DC 20230; telephone (202) 482-0176 or (202) 482-1395, respectively.

SUPPLEMENTARY INFORMATION:

Background

On December 1, 2016, Commerce published in the Federal Register a notice of opportunity to request an administrative review of the CVD order on SC paper from Canada for the period of review (POR) of August 3, 2015, through December 31, 2015.¹ Commerce received timely-filed requests from Verso Corporation (Verso); Catalyst Paper Corporation, Catalyst Pulp and Paper Sales Inc., and Catalyst Paper (USA) Inc. (collectively, Catalyst); Irving Paper Limited (Irving); Port Hawkesbury Paper LP (PHP); and Resolute FP Canada Inc and Resolute FP US Inc. (collectively, Resolute), in accordance with section 751(a) of the Tariff Act of 1930, as amended (the Act), to conduct an administrative review of the CVD order.² Based upon this request, on February 13, 2017, in accordance with section 751(a) of the Act, Commerce published a notice of initiation.³

¹ See Antidumping or Countervailing Duty Order, Finding, or Suspended Investigation; Opportunity To Request Administrative Review, 81 FR 86694 (December 1, 2016).

² See Letter from Verso, “Supercalendered Paper from Canada: Request for Administrative Review,” January 3, 2017; see Letter from Catalyst, “Supercalendered Paper from Canada: Request for Administrative Review,” December 9, 2016; see Letter from Irving, “Supercalendered Paper from Canada, Inv. No. C-122-854—Request for Administrative Review and Request for Expansion of Review Period,” December 23, 2016; see Letter from PHP, “Supercalendered Paper from Canada: Request for Administrative Review,” December 9, 2016; see Letter from Resolute, “Supercalendered Paper from Canada: Request for Administrative Review (8/3/15-12/31/15),” December 19, 2016.

³ See Initiation of Antidumping and Countervailing Duty Administrative Reviews, 82 FR 10457 (February 13, 2017).

On December 4, 2017, Commerce published in the Federal Register a notice of opportunity to request an administrative review of the CVD order on SC paper from Canada for the period of review (POR) of January 1, 2016, through December 31, 2016.⁴ Commerce received timely-filed requests from Verso Corporation, Irving Paper Limited, Port Hawkesbury Paper LP, and Resolute FP Canada Inc and Resolute FP US Inc., in accordance with section 751(a) of the Act, to conduct an administrative review of the CVD order.⁵ Based upon this request, on February 23, 2018, in accordance with section 751(a) of the Act, Commerce published a notice of initiation.⁶

⁴ See Antidumping or Countervailing Duty Order, Finding, or Suspended Investigation; Opportunity To Request Administrative Review, 83 FR 57219 (December 4, 2017).

⁵ See Letter from Verso, “Supercalendered Paper from Canada: Request for Administrative Review,” December 29, 2017; see Letter from Irving, “Supercalendered Paper from Canada, Inv. No. C-122-854—Request for Administrative Review,” December 15, 2017; see Letter from PHP, “Supercalendered Paper from Canada: Request for Administrative Review,” December 20, 2017; see Letter from Resolute, “Supercalendered Paper from Canada: Request for Administrative Review (1/1/2016-12/31/2016),” December 21, 2017.

⁶ See Initiation of Antidumping and Countervailing Duty Administrative Reviews, 83 FR 8058 (February 23, 2018).

On July 5, 2018, Commerce revoked the CVD order on SC paper.⁷

⁷ See Supercalendered Paper from Canada: Final Results of Changed Circumstances Review and Revocation of Countervailing Duty Order, signed July 5, 2018.

Rescission of Administrative Reviews

Pursuant to 19 CFR 351.222(g), Commerce revoked the CVD order on SC paper from Canada. The effective date of the revocation of the CVD order is August 3, 2015. As a result of the revocation, we instructed U.S. Customs and Border Protection (CBP) to discontinue the suspension of liquidation and the collection of cash deposits of estimated countervailing duties, to liquidate all unliquidated entries that were entered on or after August 3, 2015, without regard to countervailing duties, and to refund all CVD cash deposits on all such merchandise, with applicable interest. These administrative reviews cover the period August 3, 2015 through December 31, 2015, and the period January 1, 2016 through December 31, 2016. Because the revocation is retroactive to August 3, 2015, the periods covered by these ongoing administrative reviews are no longer subject to the CVD order, and there is no basis for conducting the administrative review. Therefore, Commerce is rescinding these administrative reviews.

Assessment

Because we ordered the liquidation of the entries subject to these administrative reviews, as a result of the revocation of the CVD order, there is no need to issue additional instructions to CBP.

Notification Regarding Administrative Protective Orders

This notice serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

This notice is issued and published in accordance with section 751 of the Act and 19 CFR 351.213(d)(4).

Dated: July 5, 2018.
Gary Taverman,
Deputy Assistant Secretary for Antidumping and Countervailing Duty Operations, performing the non-exclusive functions and duties of the Assistant Secretary for Enforcement and Compliance.

[FR Doc. 2018-14922 Filed 7-11-18; 8:45 am]

BILLING CODE 3510-DS-P